DEPARTMENT OF VETERANS AFFAIRS

VA Vocational Rehabilitation and Employment Task Force; Notice of Meeting

The Department of Veterans Affairs (VA) gives notice under Public Law 92-463 (Federal Advisory Committee Act) that a meeting of the VA Vocational Rehabilitation and Employment (VR&E) Task Force will take place on Thursday, May 8, 2003, from 9 a.m. until 4:30 p.m. The meeting will be held at the Veterans Benefits Administration, 1800 G Street, NW., Conference Room 534, Washington, DC. The meeting is open to the public.

The purpose of the Task Force is to conduct an independent review of the VR&E Program within the Veterans Benefits Administration (VBA). The Task Force will provide recommendations to the Secretary of Veterans Affairs on improving the Department's ability to provide comprehensive services and assistance to veterans with service-connected disabilities and employment handicaps in becoming employable, and obtaining and maintaining suitable employment. The Task Force will also assess independent living services provided by VBA.

This will be the Task Force's initial meeting. Organizational business, to include briefings on ethics requirements and other administrative matters, will be conducted. The meeting's agenda will also include briefings and discussions on the manner in which vocational rehabilitation, independent living, and employment services are provided at VA.

No time will be allocated for receiving oral presentations from the public. Interested parties who wish to attend the meeting should have adequate identification for entry into the building and will be subject to a security screening process. Members of the public may submit written comments for review by the Committee to: Mr. John O'Hara, Executive Director, VA Vocational Rehabilitation and Employment Task Force, VA Office of Policy, Planning, and Preparedness (008B), 810 Vermont Avenue, NW., Washington, DC 20420. Mr. O'Hara can be reached at (202) 273-5130, fax number (202) 273-5991 and e-mail address john.o'hara@mail.va.gov.

Dated: April 25, 2003.
By Direction of the Secretary.
E. Philip Riggin,
Committee Management Officer.

[FR Doc. 03-10857 Filed 5-1-03; 8:45 am]

BILLING CODE 8320-01-M